DEPARTMENT OF TRANSPORTATION

Federal Aviation Administration

Notice of Opportunity for Public Comment on Grant Acquired Property Release at Laurinburg-Maxton Airport, Maxton, NC

AGENCY: Federal Aviation Administration (FAA), DOT.

ACTION: Notice.

SUMMARY: Under the provisions of Title 49, U.S.C., Section 47153(c), notice is being given that the FAA is considering a request from the City of Laurinburg and Town of Maxton to waive the requirement that approximately 0.807 acres of airport property, located at the Laurinburg-Maxton Airport, be used for aeronautical purposes.

DATES: Comments must be received on or before April 6, 2007.

ADDRESSES: Comments on this notice may be mailed or delivered in triplicate to the FAA at the following address: Atlanta Airports District Office, Attn: Rusty Nealis, Program Manager, 1701 Columbia Ave., Suite 2-260, Atlanta, GA 30337-2747.

In addition, one copy of any comments submitted to the FAA must be mailed or delivered to Paul G. Davis, Executive Director, Laurinburg-Maxton Airport Commission at the following address: Laurinburg-Maxton Airport Commission, 16701 Airport Road, Maxton, NC 28364.

FOR FURTHER INFORMATION CONTACT: Rusty Nealis, Program Manager, Atlanta Airports District Office, 1701 Columbia Ave., Campus Building, Suite 2-260, Atlanta, GA 30337-2747, (404) 305-7142. The application may be reviewed in person at this same location.

SUPPLEMENTARY INFORMATION: The FAA is reviewing a request by the City of Concord to release approximately 0.807 acres of airport property at the Laurinburg-Maxton Airport. The property consists of one parcel roughly located in the Northeast quadrant of the airport on the west side of Tinker Drive. This property is currently shown on the approved Airport Layout Plan as non-aeronautical use land and the proposed use of this property is compatible with airport operations. The City will ultimately sell the property for future industrial use with proceeds of the sale providing funding for future airport development.

Any person may inspect the request in person at the FAA office listed above under FOR FURTHER INFORMATION CONTACT. In addition, any person may, upon request, inspect the request, notice and other documents germane to the request in person at the Laurinburg-Maxton Airport.

Issued in Atlanta, Georgia, on February 21, 2007.
Scott L. Seritt,
Manager, Atlanta Airports District Office, Southern Region.

[FR Doc. 07-1018 Filed 3-6-07; 8:45 am]

BILLING CODE 4910-13-M